DEPARTMENT OF HEALTH AND HUMAN SERVICES

Public Meeting of the President's Council on Bioethics on July 11-12, 2002

AGENCY: The President's Council on Bioethics, HHS.

ACTION: Notice.

SUMMARY: The President's Council on Bioethics will hold its fifth meeting, at which it will discuss human cloning, stem cell research, the patentability of human organisms, and other issues.

DATES: The meeting will take place Thursday, July 11, 2002, from 8:30 a.m. to 4:45 p.m. ET, and Friday, July 12, 2002, from 8:30 a.m. to 12:15 p.m. ET.

ADDRESSES: Ritz-Carlton Washington, DC, 1150 22nd Street, NW, Washington, DC 20037.

PUBLIC COMMENTS: The meeting agenda will be posted at http://www.bioethics.gov. Written statements may be submitted by members of the public for the Council's records. Please submit statements to Ms. Diane Gianelli, Director of Communications, (tel. 202/296-4669 or E-mail info@bioethics.gov). Persons wishing to comment in person may do so during the hour set aside for this purpose beginning at 3:00 p.m. ET, on Thursday, July 11, 2002. Comments will be limited to no more than five minutes per speaker or organization. Please give advance notice of such statements to Ms. Gianelli at the phone number given above, and be sure to include name, affiliation, and a brief description of the topic or nature of the statement.

FOR FURTHER INFORMATION CONTACT: Diane Gianelli, 202/296-4669, or visit http://www.bioethics.gov.

Dated: June 19, 2002.
Dean Clancy,
Executive Director, the President's Council on Bioethics.

[FR Doc. 02-16480 Filed 6-28-02; 8:45 am]

BILLING CODE 4110-60-P